DEPARTMENT OF JUSTICE

National Institute of Justice

[OMB Number 1121-NEW]

Agency Information Collection Activities: Proposed New Information Collection Activity; Comment Request, Proposed Study Entitled “Evaluation of the Bureau of Justice Assistance Sexual Assault Kit Initiative”

AGENCY: National Institute of Justice, U.S. Department of Justice

ACTION: 60-day notice.

SUMMARY: The Department of Justice (DOJ), Office of Justice Programs, National Institute of Justice, will be submitting the following information collection request to the Office of Management and Budget (OMB) for review and approval in accordance with the Paperwork Reduction Act of 1995.

DATES: Comments are encouraged and will be accepted for 60 days until August 18, 2017.

FOR FURTHER INFORMATION CONTACT: If you have additional comments especially on the estimated public burden or associated response time, suggestions, or need a copy of the proposed information collection instrument with instructions or additional information, please contact Christine Crossland, National Institute of Justice, Office of Research & Evaluation, 810 Seventh Street NW., Washington, DC 20531 (overnight 20001) or via email at christine.crossland@ojp.usdoj.gov.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the National Institute of Justice, including whether the information will have practical utility;

—Evaluate the accuracy of the agency's estimate of the burden of the proposed collection of information, including the validity of the methodology and assumptions used;

—Evaluate whether, and if so how, the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Site visits, which will include individual and group interviews.

2. The Title of the Form/Collection: Evaluation of the Bureau of Justice Assistance Sexual Assault Kit Initiative.

3. The agency form number, if any, and the applicable component of the Department sponsoring the collection: The applicable component within the U.S. Department of Justice is the National Institute of Justice in the Office of Justice Programs.

4. Affected public who will be asked or required to respond, as well as a brief abstract: Sexual assault kits (SAKs) are invaluable tools used in investigations to collect evidence such as DNA and to document injuries from alleged victims; this evidence in turn is used to identify and prosecute offenders and to exonerate innocent suspects. Despite the importance of SAKs, backlogs of unsubmitted and untested kits have emerged in jurisdictions across the country (e.g., Peterson and Hickman, 2005; Strom et al., 2009). The Bureau of Justice Assistance (BJA) established the Sexual Assault Kit Initiative (SAKI) to provide assistance to jurisdictions who are addressing these issues. In FY 2015, 20 sites were funded through SAKI to engage in reforms intended to improve the national response to sexual assault cases.

The objectives of the current study are to conduct an evaluability assessment of all 20 FY2015 sites to determine their readiness to participate in an evaluation of the SAKI and to develop a comprehensive and rigorous evaluation plan to ultimately determine the extent to which SAKI reforms have resulted in intended (and/or unintended) system changes. The evaluability assessment data collection process will include visits to the 20 sites, which will be comprised of individual and group interviews with a maximum of 20 respondents per site.

The types of respondents who will be asked to respond to requests for interviews will include the SAKI Site Coordinator, representatives from sectors involved in working groups (e.g., law enforcement, forensic medical personnel, forensic laboratory personnel, prosecutors, victim advocates, victim treatment providers), specialized staff (e.g., cold case detectives, police administrative support, victim compensation staff).

5. An estimate of the total number of respondents and the amount of time estimated for an average respondent to respond: The estimated average burden for a respondent completing a site visit interview is approximately 60 minutes. A maximum of 20 respondents will be interviewed, either individually or in groups, at each of the 20 sites. Therefore, the total number of estimated respondents for the entire evaluability site visit data collection is 400 (20 sites × 20 respondents per site).

6. An estimate of the total public burden (in hours) associated with the collection: The maximum estimated public burden associated with this collection is 400 hours. It is estimated that each of the 400 site visit interviews will take 60 minutes to complete (400 respondents × 60 minutes = 400 hours).

If additional information is required contact: Melody Braswell, Department Clearance Officer, United States Department of Justice, Justice Management Division, Policy and Planning Staff, Two Constitution Square, 145 N Street NE., 3E.405A, Washington, DC 20530.

Dated: June 14, 2017
Melody Braswell,
Department Clearance Officer for PRA, U.S. Department of Justice.

[FR Doc. 2017-12623 Filed 6-16-17; 8:45 am]

BILLING CODE 4410-18-P